ENVIRONMENTAL PROTECTION AGENCY

40 CFR Part 52

[EPA-R01-OAR-2014-0631; A-1-FRL-9932-12-Region 1]

Approval and Promulgation of Air Quality Implementation Plans; Massachusetts; Approval of Regulations Limiting Emissions of Volatile Organic Compounds and Nitrogen Oxides

AGENCY: Environmental Protection Agency (EPA).

ACTION: Direct final rule.

SUMMARY: The Environmental Protection Agency (EPA) is approving State Implementation Plan (SIP) revisions submitted by the Commonwealth of Massachusetts. These revisions establish emission limitations for certain activities that cause emissions of volatile organic compounds (VOCs) and nitrogen oxides (NOX). Approval of these state requirements into the Massachusetts SIP will make them federally enforceable. This action is being taken in accordance with the Clean Air Act.

DATES: This direct final rule will be effective December 8, 2015, unless EPA receives adverse comments by November 9, 2015. If adverse comments are received, EPA will publish a timely withdrawal of the direct final rule in the Federal Register informing the public that the rule will not take effect.

ADDRESSES: Submit your comments, identified by Docket ID Number EPA-R01-OAR-2014-0631 by one of the following methods:

1. www.regulations.gov: Follow the on-line instructions for submitting comments.

2. Email: arnold.anne@epa.gov.

3. Fax: (617) 918-0047.

4. Mail: “Docket Identification Number EPA-R01-OAR-2014-0631,” Anne Arnold, U.S. Environmental Protection Agency, EPA New England Regional Office, Office of Ecosystem Protection, Air Quality Planning Unit, 5 Post Office Square—Suite 100, (Mail code OEP05-2), Boston, MA 02109-3912.

5. Hand Delivery or Courier. Deliver your comments to: Anne Arnold, Manager, Air Quality Planning Unit, Office of Ecosystem Protection, U.S. Environmental Protection Agency, EPA New England Regional Office, 5 Post Office Square—Suite 100, (Mail code OEP05-2), Boston, MA 02109-3912. Such deliveries are only accepted during the Regional Office's normal hours of operation. The Regional Office's official hours of business are Monday through Friday, 8:30 a.m. to 4:30 p.m., excluding legal holidays.

Instructions: Direct your comments to Docket ID No. EPA-R01-OAR-2014-0631. EPA's policy is that all comments received will be included in the public docket without change and may be made available online at www.regulations.gov, including any personal information provided, unless the comment includes information claimed to be Confidential Business Information (CBI) or other information whose disclosure is restricted by statute. Do not submit through www.regulations.gov, or email, information that you consider to be CBI or otherwise protected. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in www.regulations.gov or in hard copy at U.S. Environmental Protection Agency, EPA New England Regional Office, Office of Ecosystem Protection, 5 Post Office Square—Suite 100, Boston, MA. EPA requests that if at all possible, you contact the contact listed in the FOR FURTHER INFORMATION CONTACT section to schedule your inspection. The Regional Office's official hours of business are Monday through Friday, 8:30 a.m. to 4:30 p.m., excluding legal holidays.

In addition, copies of the state submittal are also available for public inspection during normal business hours, by appointment at the following State Air Agency: Air and Climate Division, Department of Environmental Protection, One Winter Street, 8th Floor, Boston, MA 02108.

FOR FURTHER INFORMATION CONTACT: Bob McConnell, Air Quality Unit, U.S. Environmental Protection Agency, EPA New England Regional Office, 5 Post Office Square—Suite 100, (Mail code OEP05-2), Boston, MA 02109-3912, telephone number (617) 918-1668, fax number (617) 918-0046, email mcconnell.robert@epa.gov.

SUPPLEMENTARY INFORMATION: Throughout this document whenever “we,” “us,” or “our” is used, we mean EPA. The phrase “the Commonwealth” refers to the Commonwealth of Massachusetts.

Organization of this document. The following outline is provided to aid in locating information in this preamble.

I. Background and Purpose

II. Summary of the Commonwealth's Submittals

1. June 1, 2010 Submittal

a. Architectural and Industrial Maintenance (AIM) Coatings And Consumer Products Rule

b. Amendment to the Definition of VOC

2. July 10, 2014 Submittal

a. Adhesives and Sealants Regulation

b. Minor Revisions to Existing Regulations

i. Changes to 310 CMR 7.18, VOC RACT

ii. Change to 310 CMR 7.19, NOX RACT

iii. Changes to Appendix B: Emissions Banking, Trading, and Averaging

III. Analysis of the Commonwealth's Submittals

1. June 1, 2010 Submittal

a. AIM coatings and Consumer Products Rule

i. AIM Coatings Requirements

ii. Consumer Products Requirements

b. Amendment to the Definition of VOC

2. July 10, 2014 Submittal

a. Adhesives and Sealants Regulation

b. Minor Revisions to Existing Regulations

i. Changes to 310 CMR 7.18, VOC RACT

ii. Change to 310 CMR 7.19, NOX RACT

iii. Changes to Appendix B: Emissions Banking, Trading, and Averaging

IV. Final Action

V. Incorporation by Reference

VI. Statutory and Executive Order Reviews

I. Background and Purpose

On June 1, 2010, and July 10, 2014, the Commonwealth of Massachusetts submitted formal revisions to its State Implementation Plan (SIP). The Commonwealth held public hearings on February 28, 2007, March 2, 2007, and November 25, 2008 for the items within the June 1, 2010 submittal, and on November 17, 2011 for the July 10, 2014 submittal. The June 1, 2010 SIP revision request contains air pollution control requirements that will reduce volatile organic compound (VOC) emissions from architectural and industrial maintenance (AIM) coatings and from consumer products, and also contains a minor regulatory revision pertaining to the definition of VOC. We approved other portions of the Commonwealth's June 1, 2010 submittal pertaining to solvent metal degreasing, motor vehicle fuel dispensing, and several definitions on September 9, 2013. See 78 FR 54960. The Commonwealth's July 10, 2014 submittal contains a regulation limiting VOC emissions from adhesives and sealants, and several minor revisions to existing regulations.

II. Summary of the Commonwealth's Submittals

1. June 1, 2010 submittal

a. AIM Coatings and Consumer Products Rule

The Commonwealth's June 1, 2010 submittal includes an amended version of Chapter 310 of the Code of Massachusetts Regulations (CMR), section 7.25, Best Available Controls for Consumer and Commercial Products. This regulation includes emission limits for AIM coatings. EPA approved Massachusetts' initial regulation for these sectors on December 19, 1995 (60 FR 65240), with a minor update approved on April 11, 2000 (65 FR 19323).

The amended regulation achieves further emission reductions of VOCs from these sectors. This was accomplished by lowering many of the existing VOC emission limits, and by expanding the universe of products covered by these regulations. Massachusetts adopted these requirements to assist with efforts to attain EPA's 1997 8-hour ozone standard. In 2004, EPA designated Massachusetts as nonattainment for this standard, and established two moderate ozone nonattainment areas which together encompass the entire state. See 69 FR 23858.

Subsequent to Massachusetts' initial adoption of these rules, EPA promulgated within 40 CFR part 59 emission standards for consumer products which became effective December 10, 1998, and for AIM coatings, which became effective on September 13, 1999. EPA has determined that the Commonwealth's rules are no less stringent than EPA requirements found at 40 CFR part 59.

Massachusetts based the current revisions on control measures in place in California and on model rules adopted by the Ozone Transport Commission (OTC) in 2001 for AIM coatings, and in 2006 for consumer products. The Commonwealth updated these existing requirements in two phases. The first phase occurred in 2007 and involved the majority of the changes to the regulation, consisting of the tightening of emission limits and addition of product categories described further in section III of this document. The second phased occurred in 2008 and was undertaken to add alternative compliance plan (ACP) provisions to the regulation.

b. Amendment to the Definition of VOC

Definitions relied upon within the Commonwealth's air pollution control regulations are codified within 310 CMR 7.00. On January 18, 2007 (72 FR 2193), EPA amended its definition of VOC that is contained within 40 CFR 51.100(s) by adding the chemical compound HFE-7300 to the list of compounds that are not considered VOCs due to their negligible photochemical reactivity. Therefore, the Commonwealth also added this compound to its list of compounds which are exempt from the definition of VOC pursuant to 310 CMR 7.00.

2. July 10, 2014 Submittal

a. Adhesives and Sealants Regulation

On July 10, 2014, Massachusetts submitted a newly adopted VOC control regulation, 310 CMR 7.18(30), Adhesives and Sealants, to EPA as a revision to its SIP. The regulation establishes VOC content limits for industrial adhesives and sealants and associated cleaning and surface preparation operations. The Commonwealth's submittal also makes minor revisions to other sections of 310 CMR 7.18 to make these sections consistent with the new adhesives and sealants regulation.

b. Minor Revisions to Existing Regulations

i. Changes to 310 CMR 7.18, VOC RACT

Massachusetts amended its existing VOC control regulation that ensures reasonably available control technology (RACT) is applied to certain industrial sources to clarify the relationship between RACT and Best Available Control Technology (BACT) and Lowest Achievable Emission Rates (LAER), and further amended it to clarify the requirements for emission control plan (ECP) submittals. In addition, Massachusetts' submittal initially included revisions to 310 CMR 7.18(1)(b). This provision, which deals with halogenated organic compounds (HOC), is not, however, part of the SIP. Therefore, Massachusetts subsequently withdrew the revised 310 CMR 7.18(1)(b) from the SIP submittal in a letter dated July 15, 2015.

ii. Changes to 310 CMR 7.19, NOX RACT

The Commonwealth's NOX RACT regulation was amended similarly to the above mentioned amendment made to the VOC RACT requirements with regard to the relationship between RACT, BACT, and LAER, and also to ECPs. Additionally, the July 10, 2014 submittal included a rewording of 310 CMR 7.19(1)(c)(9) to clarify the intent of the paragraph.

iii. Changes to Appendix B: Emissions Banking, Trading, and Averaging

The July 10, 2014 submittal included an edit to the paragraph located at 310 CMR 7.00 Appendix B(4)(b)(7) pertaining to bubbles approved prior to May 25, 1988. A bubble is a mechanism that allows the emission limits for two or more units to be analyzed collectively for regulatory purposes.

III. Analysis of the Commonwealth's Submittals

1. June 1, 2010 Submittal

a. AIM Coatings and Consumer Products Rule

Massachusetts updated 310 CMR 7.25, Best Available Controls for Consumer Products, based on model rules adopted by the OTC in 2001 for AIM coatings, and in 2006 for consumer products. These OTC rules were, in turn, based on requirements adopted and implemented by the California Air Resources Board (CARB).

i. AIM Coating Requirements

The technical support document (TSD) prepared for this action, which is available in the docket, contains tables that provide a comparison of the Commonwealth's newly adopted VOC content limits versus the existing EPA requirements. In conducting this comparison, we noted that a minor difference exists in how recycled coatings are treated within the Commonwealth's AIM coating rule and the federal rule. The Commonwealth's rule establishes a VOC content limit of 250 grams per liter (g/l) for recycled coatings. The federal AIM rule uses a formula based on the percent of the coating that is from recycled materials, and then determines an adjusted VOC content that is compared to the normative standard for that product category. Therefore, it is conceivable that the Commonwealth's regulation could provide a less stringent standard than the federal AIM rule would provide for a product containing recycled materials. If this situation occurs, we note that the limits within the federal AIM rule would need to be met. In all other cases, the Commonwealth's VOC content limits are either more stringent than, or equivalent to, those within the federal AIM rule.

Additionally, there are a number of product categories in the federal AIM rule that are not similarly named within the Commonwealth's rule. Table 2 within the TSD prepared for this action identifies these product categories, and links them to the product category with the Massachusetts AIM rule that applies to them. In all cases, the Commonwealth's VOC content limits are either more stringent than, or equivalent to, those within the federal AIM rule.

Massachusetts' revised requirements for AIM coatings contains a “sell through” provision which enabled coating manufacturers to sell coatings manufactured before the effective date of these requirements to be sold for up to three years from the rule's January 1, 2009 compliance date. The rule also includes labeling and recordkeeping requirements that are consistent with EPA's requirements. Coating manufacturers must maintain coating production records for a minimum of 5 years, and make these records available upon request.

Additional updates to the Commonwealth's previously SIP-approved requirements for AIM coatings include the following items:

1. The requirement at 7.25(4) regarding a prohibition against specifying non-compliant AIM products for work to be done within Massachusetts was moved to 7.25(11) because it pertains to AIM coatings, and does not apply to consumer and commercial products.

2. A provision explaining that possible future emission standards promulgated by EPA would override existing Massachusetts standards was removed. We note, however, that any future EPA standards that are more stringent than the comparable Massachusetts standard would indeed need to be complied with.

3. Requirements for products registered pursuant to the Federal Insecticide, Fungicide, and Rodenticide Act (FIFRA) were moved from 7.25(6) to 7.25(11) and (12).

4. The existing innovative products exemption was moved from 7.25(7) to 7.25(12);

5. The requirement at 7.25(8) that compliance certifications be submitted to the Massachusetts Department of Environmental Protection (MassDEP) was removed, but the obligation for sources to prepare and maintain this information on site, and submit it to MassDEP upon request, was retained.

The updates Massachusetts has made to its existing AIM coatings regulation strengthen the rule and are consistent with the Clean Air Act, and we are therefore approving them as revisions to the Commonwealth's SIP.

ii. Consumer Products Requirements

The Commonwealth's updated consumer product requirements became effective January 1, 2009, by which time other OTC states, and California, had adopted similar limits. This enables manufacturers to achieve compliance by using product reformulations that are similar to the available compliant products in other jurisdictions. Table 3 within the TSD prepared for this action compares the VOC content limits within Massachusetts' updated regulation and the federal requirements. The VOC content limits within Table 3 indicate that in all instances the Commonwealth's limits are equal to, or more stringent than, the comparable EPA limit.

The consumer products provisions of 310 CMR 7.25 contain a number of flexibility provisions, including the three year sell through provision mentioned earlier with regard to the AIM coating requirements. The rule also allows an entity to apply for a variance that would postpone compliance upon a successful showing of an economic hardship due to the tightened limits within the rule. A manufacturer may apply directly to the MassDEP for such an exemption, or alternatively, may request that an exemption awarded by CARB be used for compliance in Massachusetts. In the latter case, the CARB issued exemption must be shown to be based on data that is valid in the Commonwealth. In order for a variance to be granted, a source must meet a number of requirements including a demonstration that compliance would result in extraordinary economic hardship, and submittal of a compliance report indicating that the source will meet the rule's requirements as expeditiously as possible. Additionally, the rule requires that any such request for a variance be subject to a public hearing, and must also be approved by EPA before becoming effective.

The Commonwealth initially chose to not allow alternative compliance plans (ACPs) within its regulation, but changed course and adopted provisions allowing for them within amendments made on March 6, 2009, in part due to comments from industry requesting this flexibility. The provision allows manufacturers to average VOC emissions among products to meet overall VOC emission limits, and is used by other OTC states and by CARB within their consumer products rules. After consulting with other states on their experience offering this flexibility, the Commonwealth determined that it was appropriate to allow this with its consumer products regulation. EPA commented that any such ACP would need to be approved into the Massachusetts SIP, and within its response to comments, the Commonwealth committed to submit any such ACP it receives to EPA for approval into the Massachusetts SIP.

Our review of these amendments to Massachusetts' consumer products regulation finds that they act to strengthen them, meet federal requirements, and will help to further reduce VOC emissions, and we are therefore approving them into the Commonwealth's SIP.

b. Amendment to the Definition of VOC

The Commonwealth modified its existing definition of VOC contained within 310 CMR 7.00 by adding the compound HFE-7300 to the list of exempt compounds. This was done to be consistent with a similar action taken by EPA on January 18, 2007. See 72 FR 2193. EPA added HFE-7300 to the list of compounds that are exempt from the definition of VOC due to its negligible photochemical reactivity. This change is consistent with EPA's definition of VOC at 40 CFR 51.100(s), and we are approving it into the Massachusetts SIP.

2. July 10, 2014 Submittal

a. Adhesives and Sealants Regulation

The Commonwealth's adhesives and sealants regulation imposes VOC content limits, or other controls, on a number of products, and is based on similar control measures that many California air districts, and other states in the Northeast, have adopted. In particular, Massachusetts based its regulation on a 2006 OTC model rule, which in turn was based on earlier requirements adopted in California, and on EPA's 2008 document, “Control Techniques Guidelines for Miscellaneous Adhesives.” EPA develops Control Technique Guidelines (CTGs) to assist states with determining the appropriate level of control for sources subject to RACT. Due to its inclusion within the Ozone Transport Region, the Commonwealth is required to ensure that RACT is applied to industrial sources in the Massachusetts pursuant to section 184(b)(1)(B) of the CAA. In 2006, 2007, and 2008, EPA published final CTGs for a number of VOC emitting activities, and Massachusetts' adoption of this regulation satisfies the Commonwealth's obligation to adopt regulations for this particular CTG.

Although Massachusetts' existing Consumer Products regulation at 310 CMR 7.25(12) regulates “household” adhesives and sealants, it exempts such products sold in containers and volumes more than 16 fluid ounces or weighing more than 1 pound. Many of these exempted items would be covered by the Commonwealth's adhesives and sealants rule. The compliance date within the Commonwealth's adhesives and sealants rule is January 1, 2015 with regard to a manufacturer of products sold in Massachusetts. Additionally, the compliance date is September 1, 2015, for any person who sells, supplies, or offers for sale any covered product in Massachusetts, and May 1, 2016 for any person who uses, applies, or solicits the use of covered products in Massachusetts.

Table 4 of the TSD prepared for this action provides the VOC content limits contained within the rule for the covered product categories, which are adhesives, sealants, adhesive primers, and sealant primers, and Table 5 of the TSD contains the VOC content limits for adhesives applied to particular substrates. The Massachusetts rule contains VOC content limits that are equal to, or more stringent than, the comparable limits within EPA's CTG. EPA's CTG contains VOC content limits for “motor vehicle adhesives” and “motor vehicle weather-strip adhesives,” two product categories not directly addressed in the Commonwealth's rule. In its response to comments document prepared for the adhesives and sealants rulemaking, Massachusetts notes this difference and indicates that adhesives that fall under these two categories will be regulated under the applicable category limits for adhesives applied to particular substrates. These limits have a maximum VOC content of 250 grams/liter and are at least as stringent as the limits for motor vehicle adhesives and motor vehicle weather-strip adhesives within EPA's CTG.

The Commonwealth's adhesives and sealants rule also contains testing, labeling, and recordkeeping requirements for entities subject to the rule. We are approving the Commonwealth's adhesives and sealants regulation as meeting the requirements of RACT as outlined within EPA's 2008 CTG for this category of VOC emitting products.

b. Minor Revisions to Existing Regulations

i. Changes to 310 CMR 7.18, VOC RACT

Massachusetts amended its existing VOC RACT regulation to clarify the relationship between RACT, BACT, and LAER. Specifically, the Commonwealth clarified that an emission unit subject to a BACT or LAER plan approval is not subject to RACT unless and until such time as a RACT standard becomes more stringent than the existing BACT or LAER standard to which the unit is subject. Regarding emission control plans (ECPs), Massachusetts made changes to 310 CMR 7.18(20)(a) and (b) to clarify which sources need such plans, and which sources are exempt.

ii. Changes to 310 CMR 7.19, NOX RACT

The Commonwealth's NOx RACT regulation was amended similarly to the above mentioned amendment made to the VOC RACT requirements with regard to the relationship between RACT, BACT, and LAER. The revised language appears within the paragraph located at section 310 CMR 7.19(1)(c)(9).

iii. Changes to Appendix B: Emissions Banking, Trading, and Averaging

The July 10, 2014 submittal included an edit to 310 CMR 7.00 Appendix B, which EPA previously approved into the Commonwealth's SIP on August 8, 1996. See 61 FR 41335. The amendment concerns paragraph (4)(b)(7) of Appendix B pertaining to bubbles approved prior to May 25, 1988. A bubble is a mechanism that allows the emission limits for two or more units to be analyzed collectively for regulatory purposes. The revision applies to facilities that were issued bubbles prior to May 25, 1988, that seek to modify the requirements of the bubble solely to incorporate a more stringent RACT requirement. The revised language clarifies the original intent of the regulation that such facilities are not subject to the requirements of 310 CMR 7.00: Appendix B(4).

We have reviewed the Commonwealth's SIP submittals made on July 10, 2014, and find that they are consistent with the requirements of the Clean Air Act. We are, therefore, approving them as revisions to the Commonwealth's SIP.

IV. Final Action

We are approving revisions to the Massachusetts SIP submitted on June 1, 2010, consisting of updates to an existing regulation limiting VOC emissions from AIM coatings and consumer products, and also a revised definition of VOC. We are also approving SIP revisions submitted on July 10, 2014, consisting of a new regulation that limits VOC emissions from adhesives and sealants, several minor updates to the Commonwealth's existing VOC and NOX RACT regulations, and a minor change to Appendix B, Emissions Banking, Trading, and Averaging.

The EPA is publishing this action without prior proposal because the Agency views this as a noncontroversial amendment and anticipates no adverse comments. However, in the proposed rules section of this Federal Register publication, EPA is publishing a separate document that will serve as the proposal to approve the SIP revision should relevant adverse comments be filed. This rule will be effective December 8, 2015 without further notice unless the Agency receives relevant adverse comments by November 9, 2015.

If the EPA receives such comments, then EPA will publish a notice withdrawing the final rule and informing the public that the rule will not take effect. All public comments received will then be addressed in a subsequent final rule based on the proposed rule. The EPA will not institute a second comment period on the proposed rule. All parties interested in commenting on the proposed rule should do so at this time. If no such comments are received, the public is advised that this rule will be effective on December 8, 2015 and no further action will be taken on the proposed rule. Please note that if EPA receives adverse comment on an amendment, paragraph, or section of this rule and if that provision may be severed from the remainder of the rule, EPA may adopt as final those provisions of the rule that are not the subject of an adverse comment.

V. Incorporation by Reference

In this rule, the EPA is finalizing regulatory text that includes incorporation by reference. In accordance with requirements of 1 CFR 51.5, the EPA is finalizing the incorporation by reference of the Massachusetts' regulations described in the amendments to 40 CFR part 52 set forth below. The EPA has made, and will continue to make, these documents generally available electronically through www.regulations.gov and/or in hard copy at the appropriate EPA office (see the ADDRESSES section of this preamble for more information).

VI. Statutory and Executive Order Reviews

Under the Clean Air Act, the Administrator is required to approve a SIP submission that complies with the provisions of the Act and applicable Federal regulations. 42 U.S.C. 7410(k); 40 CFR 52.02(a). Thus, in reviewing SIP submissions, EPA's role is to approve state choices, provided that they meet the criteria of the Clean Air Act. Accordingly, this action merely approves state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011).

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the Clean Air Act; and

• does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the rule does not have tribal implications and will not impose substantial direct costs on tribal governments or preempt tribal law as specified by Executive Order 13175 (65 FR 67249, November 9, 2000).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by December 8, 2015. Filing a petition for reconsideration by the Administrator of this final rule does not affect the finality of this action for the purposes of judicial review nor does it extend the time within which a petition for judicial review may be filed, and shall not postpone the effectiveness of such rule or action. Parties with objections to this direct final rule are encouraged to file a comment in response to the parallel notice of proposed rulemaking for this action published in the proposed rules section of today's Federal Register, rather than file an immediate petition for judicial review of this direct final rule, so that EPA can withdraw this direct final rule and address the comment in the proposed rulemaking. This action may not be challenged later in proceedings to enforce its requirements. (See section 307(b)(2).)

List of Subjects in 40 CFR Part 52

Environmental protection, Air pollution control, Incorporation by reference, Ozone, Reporting and recordkeeping requirements, Volatile organic compounds.

Dated: July 22, 2015.
H. Curtis Spalding,
Regional Administrator, EPA New England.

Part 52 of chapter I, title 40 of the Code of Federal Regulations is amended as follows:

PART 52—[AMENDED]

1. The authority citation for part 52 continues to read as follows:

Authority: 42 U.S.C. 7401 et seq.

Subpart W—Massachusetts

2. Section 52.1120 is amended by adding paragraph (c)(142) to read as follows:

§ 52.1120 Identification of plan.

* * * * *

(c) * * *

(142) Revisions to the State Implementation Plan submitted by the Massachusetts Department of Environmental Protection.

(i) Incorporation by reference.

(A) Massachusetts Regulation 310 CMR 7.00, “Statutory Authority; Legend; Preamble; Definitions,” the definition for volatile organic compound, effective on March 6, 2009.

(B) Massachusetts Regulation 310 CMR 7.00, Appendix B, “U Emissions Banking, Trading, and Averaging,” section (4), “Emissions Averaging (Bubble),” paragraph (b)7, effective August 30, 2013.

(C) Massachusetts Regulation 310 CMR 7.18, “U Volatile and Halogenated Organic Compounds,” section (1), “U Applicability and Handling Requirements,” paragraphs (d) and (f); section (2), “U Compliance with Emission Limitations,” paragraphs (b), (e), and (f); section (20), “Emission Control Plans for Implementation of Reasonably Available Control Technology,” paragraph (a); and section (30), “Adhesives and Sealants;” effective August 30, 2013.

(D) Massachusetts Regulation 310 CMR 7.19, “U Reasonably Available Control Technology (RACT) for Sources of Oxides of Nitrogen (NOX),” section (1), “Applicability,” paragraph (c)9, effective August 30, 2013.

(E) Massachusetts Regulation 310 CMR 7.25, “U Best Available Controls for Consumer and Commercial Products,” effective October 19, 2007.

3. In § 52.1167, Table 52.1167 is amended by:

a. Adding a new entry to the existing state citations for 310 CMR 7.00;

b. Adding a new entry for 310 CMR 7.00 Appendix B in alphanumerical order;

c. Adding a new entry for 310 CMR 7.18(1)(d) and (f) in alphanumerical order;

d. Adding a new entry for 310 CMR 7.18(2)(b), (e), and (f) in alphanumerical order;

e. Adding a new entry for 310 CMR 7.18(20)(a) and (b) in alphanumerical order;

f. Adding a new entry for 310 CMR 7.18(30) in alphanumerical order;

g. Adding a new entry for 310 CMR 7.19(1)(c)(9) in alphanumerical order; and

h. Adding a new entry to the existing state citations for 310 CMR 7.25.

§ 52.1167 EPA-approved Massachusetts State regulations.

* * * * *

Table 52.1167—EPA-Approved Rules and Regulations
[See Notes at end of Table]
State citation | Title/subject | Date submitted by State | Date approved by EPA | Federal Register citation | 52.1120(c) | Comments/unapproved sections
* * * * * * *
310 CMR 7.00 | Definitions | 6/1/10 | 10/9/15 | [Insert Federal Register page number where the document begins] | 142 | Approved update to definition for volatile organic compound.
* * * * * * *
310 CMR 7.00 Appendix B | U Emissions Banking, Trading, and Averaging. | 7/10/14 | 10/9/15 | [Insert Federal Register page number where the document begins] | 142 | Approved amended language regarding emissions averaging bubbles.
* * * * * * *
310 CMR 7.18(1)(d) and (f). | U Applicability and Handling Requirements | 7/10/14 | 10/9/15 | [Insert Federal Register page number where the document begins] | 142 | Revisions made to clarify applicability requirements.
* * * * * * *
310 CMR 7.18(2)(b), (e), (f). | U Compliance with Emission Limitations | 7/10/14 | 10/9/15 | [Insert Federal Register page number where the document begins] | 142 | Revisions made clarifying eligibility for bubbling coating lines together for compliance purposes.
* * * * * * *
310 CMR 7.18(20)(a), (b) | Emission Control Plans for Implementation of RACT | 7/10/14 | 10/9/15 | [Insert Federal Register page number where the document begins] | 142 | Clarification of entities required to submit emission control plans.
* * * * * * *
310 CMR 7.18(30) | Adhesives and Sealants | 7/10/14 | 10/9/15 | [Insert Federal Register page number where the document begins] | 142 | Regulation limiting emissions from adhesives and sealants.
* * * * * * *
310 CMR 7.19(1)(c)(9) | NOx RACT | 7/10/14 | 10/9/15 | [Insert Federal Register page number where the document begins] | 142 | Update made to section 1, applicability.
* * * * * * *
310 CMR 7.25 | Best Available Controls for Consumer and Commercial Products | 6/1/10 | 10/9/15 | [Insert Federal Register page number where the document begins] | 142 | Amended existing consumer products related requirements, added provisions concerning AIM coatings.
* * * * * * *
Notes:
1. This table lists regulations adopted as of 1972. It does not depict regulatory requirements which may have been part of the Federal SIP before this date.
2. The regulations are effective statewide unless otherwise stated in comments or title section.

[FR Doc. 2015-25320 Filed 10-8-15; 8:45 am]

BILLING CODE 6560-50-P